EQUAL EMPLOYMENT OPPORTUNITY COMMISSION

Public Hearing

AGENCY: Equal Employment Opportunity Commission.

ACTION: Notice of public hearing.

SUMMARY: Notice is hereby given that the Equal Employment Opportunity Commission has scheduled a public hearing to gather information and hear public comment on its proposed revision of the Employer Information Report (EEO-1) published for public comment at 81 FR 5113 (February 1, 2016).

Time and Date: March 16, 2016; 9:30 a.m. EDST.

Place: 131 M Street NE., Washington, DC 20507, Jacqueline A. Berrien Commission Meeting Room.

FOR FURTHER INFORMATION CONTACT: Ronald Edwards, Director, Program Research and Surveys Division, Equal Employment Opportunity Commission, 131 M Street NE., Room 4SW30F, Washington, DC 20507; (202) 663-4949 (voice) or (202) 663-7063 (TTY). Requests for this notice in an alternative format should be made to the Office of Communications and Legislative Affairs at (202) 663-4191 (voice) or (202) 663-4494 (TTY).

SUPPLEMENTARY INFORMATION: Under section 709(c) of Title VII of the Civil Rights Act of 1964, as amended (42 U.S.C. 2000e-8(c)), the Equal Employment Opportunity Commission (EEOC) on February 1, 2016, published proposed revisions to the EEO-1 Report form to include collection of pay and hours worked data. 81 FR 5113. The proposed revised EEO-1 Report form can be found at http://www.eeoc.gov/employers/eeo1survey/2016_new_survey.cfm. The February 1, 2016, notice requested comments on the proposed changes to the EEO-1 Report and stated that a hearing would be held. This notice sets the hearing for March 16, 2016.

Persons wishing to speak at the hearing should notify the Commission of their desire to do so by February 22, 2016. EEOC requests that written requests to participate in the hearing include a brief summary of the planned statement. Written requests may be submitted in hard copy to Bernadette Wilson, Acting Executive Officer, Executive Secretariat, Equal Employment Opportunity Commission, 131 M Street NE., Washington, DC 20507. The Office of the Executive Secretariat also will accept written requests by fax. The telephone number of the fax receiver is (202) 663-4114. (This is not a toll-free number.) Receipt of fax transmittals will not be acknowledged, except that the sender may request confirmation of receipt by calling the Executive Secretariat staff at (202) 663-4070 (voice) or (202) 663-4074 (TTY). (These are not toll-free telephone numbers.) Because of time limitations, all interested persons may not be able to testify at the hearing, but the Commission will consider all written statements submitted. EEOC will request that the speakers selected to testify limit their testimony to the time period allotted.

Members of the public have until April 1, 2016, to submit written comments in accordance with the procedures set out in the February 1, 2016, notice. These comments will be available for review at the Commission's library between the hours of 9 a.m. and 5 p.m. To schedule an appointment to inspect the comments at the EEOC's library, contact the library staff at (202) 663-4630 (voice) or (202) 663-4641 (TTY). (These are not toll-free numbers.) The comments submitted in response to the February 1, 2016, notice will automatically become part of the hearing record unless the submitter directs otherwise.

Dated: February 10, 2016.
For the Commission.
Jenny R. Yang,
Chair.

[FR Doc. 2016-03088 Filed 2-12-16; 8:45 am]

BILLING CODE P